NUCLEAR REGULATORY COMMISSION

[NRC-2011-0064]

Prohibiting Exports Involving Libya by Executive Order

AGENCY: Nuclear Regulatory Commission.

ACTION: Notice.

SUMMARY: The U.S. Nuclear Regulatory Commission (NRC) is providing notice to all general and specific licensees of an Executive Order that prohibits any nuclear exports involving the Government of Libya.

FOR FURTHER INFORMATION CONTACT: Grace Kim, Office of the General Counsel, U.S. Nuclear Regulatory Commission, Washington, DC 20555-0001, telephone: 301-415-3605, e-mail: Grace.Kim@nrc.gov.

SUPPLEMENTARY INFORMATION:

Exports Involving the Government of Libya Suspended by Executive Order

Under an Executive Order issued by the President on February 25, 2011, the transfer from the United States or by any United States person of any product involving the Government of Libya is now legally prohibited unless authorized by the Department of Treasury's Office of Foreign Assets Control (OFAC) or exempt from the scope of the Executive Order. The Executive Order may be found at the following link: http://www.whitehouse.gov/the-press-office/2011/02/25/executive-order-libya

The Executive Order also prohibits transactions involving specific individuals, such as Muammar Qadhafi and his children. The names of these designated persons are included in the OFAC list of Specially Designated Nationals and Blocked Persons, which is available at: http://www.treasury.gov/resource-center/sanctions/SDN-List/Pages/default.aspx.

The Executive Order applies to U.S. exports of nuclear items involving the Government of Libya or designated persons, regardless of whether such exports are otherwise authorized under NRC general or specific licenses. Exporters who seek to export nuclear items to Libya or to designated persons under specific or general NRC licenses should contact OFAC regarding the applicability of the Executive Order to the proposed nuclear exports and the availability of OFAC authorization for such exports.

Dated at Rockville, Maryland, this 17th day of March 2011.
For the Nuclear Regulatory Commission.
Margaret M. Doane,
Director, Office of International Programs.

[FR Doc. 2011-6891 Filed 3-22-11; 8:45 am]

BILLING CODE 7590-01-P